OFFICE OF GOVERNMENT ETHICS

Agency Information Collection Activities: Submission for OMB Review; Proposed Collection; Comment Request for Modified OGE Form 201 Ethics Act Access Form

AGENCY: Office of Government Ethics (OGE).

ACTION: Notice.

SUMMARY: The Office of Government Ethics is submitting to the Office of Management and Budget (OMB) a proposed modified OGE Form 201 for review and three-year approval under the Paperwork Reduction Act. The OGE Form 201 is used by persons for requesting access to executive branch public financial disclosure reports and other covered records. OGE is proposing three modifications to the form: clarifying the prohibited uses statement; updating the Privacy Act Statement summary; and updating the edition date. The modified form, once approved, will replace the existing one.

DATES: Comments by the agencies and the public on this proposal are invited and should be received by August 2, 2006.

ADDRESSES: Comments should be sent to Rachel F. Potter, Desk Officer for OGE, Office of Information and Regulatory Affairs, Office of Management and Budget, New Executive Office Building, Room 10235, Washington, DC 20503; fax: 202-395-6974.

FOR FURTHER INFORMATION CONTACT: Paul D. Ledvina, Records Officer, Information Resources Management Division, Office of Government Ethics; Telephone: 202-482-9300; TDD: 202-482-9293; fax: 202-482-9237. A copy of the proposed modified OGE Form 201 may be obtained, without charge, by contacting Mr. Ledvina.

SUPPLEMENTARY INFORMATION: The Office of Government Ethics is submitting to OMB a proposed modified OGE Form 201 “Request to Inspect or Receive Copies of SF 278 Executive Branch Personnel Public Financial Disclosure Reports or Other Covered Records” for review and three-year approval under the Paperwork Reduction Act of 1995 (44 U.S.C. chapter 35). Once finally approved by OMB and adopted by OGE, the modified version of this OGE form will replace the existing version.

The Office of Government Ethics, which is the supervising ethics office for the executive branch of the Federal Government under section 109(18)(D) of the Ethics in Government Act (the Ethics Act), 5 U.S.C. appendix, § 109(18)(D), has developed the OGE Form 201 (OMB control # 3209-0002) for branchwide use. The form collects information from, and provides certain information to, persons who seek access to SF 278 reports and other covered records. The form reflects the requirements of the Ethics Act and OGE's implementing regulations that must be met by a person before access can be granted. These requirements relate to information about the identity of the requester, as well as any other person on whose behalf a record is sought, and a notification of prohibited uses of SF 278 reports. See section 105(b) and (c) of the Ethics Act, 5 U.S.C. app., § 105(b) and (c), and 5 CFR 2634.603(c) and (f) of OGE's executive branchwide regulations thereunder.

Executive branch departments and agencies are encouraged to utilize the OGE Form 201, but they can, if they so choose, continue to use or develop their own forms as long as they contain all the required information and meet all the legal requirements therefor.

Proposed Modifications

First, OGE proposes rewording the prohibited uses statement on the form in order to clarify that the submitter's signature denotes awareness of the prohibited uses of SF 278 reports. In addition, OGE proposes moving the statement on the form so that it precedes the signature and date block.

Second, OGE proposes modifying the Privacy Act Statement in part II.A. of the OGE Form 201. In 2003, OGE updated the OGE/GOVT-1 executive branchwide system of records notice (covering Executive Branch Personnel Public Financial Disclosure Reports and Other Name-Retrieved Ethics Program Records, in which completed OGE Form 201s are maintained). See 68 FR 3097-3109, at 3100 (January 22, 2003), as corrected at 68 FR 24744 (May 8, 2003). That revised system notice included three additional routine uses for records in the system. OGE has already added summaries of them to the OGE Form 201 Privacy Act Statement (see the listed additional disclosures (uses) #s 7-9). However, the summary of the sixth routine use listed on the OGE Form 201 still needs to be updated to reflect the 2003 revision of the underlying routine use, which OGE's second proposed modification to the form would do.

Third, OGE proposes updating the edition date on pages one and two of the OGE Form 201.

Reporting Burden

OGE estimates that an average of 365 OGE Form 201s will be filed throughout the executive branch each year by members of the public (primarily by news media, public interest groups and private citizens) for the next three years. This figure is based on the number of OGE Form 201s filed by members of the public at OGE (221 for 2003, 143 for 2004, and 206 for 2005) and at departments and agencies from the rest of the executive branch (244 for 2003, 140 for 2004, and 140 for 2005), as reported on OGE's annual agency ethics program questionnaires. The branchwide three-year total amounts to 1,094 forms. OGE has divided that number by three to give the projected annual average of 365 forms for the next three years (2006-2008).

The estimated average amount of time to complete the form, including review of the instructions, remains at ten minutes. Thus, the estimated annual public burden for the OGE Form 201 (throughout the executive branch) is 61 hours (365 forms x 10 minutes per form—number rounded up). This is an increase from the current burden of 37 hours. The current burden accounts for public filers whose OGE Form 201s were filed each year only with OGE. The proposed estimate of burden hours includes OGE Form 201s or equivalent access forms filed by members of the public with departments and agencies throughout the executive branch (including OGE). The annual estimates above differ from those reported in the first round FR notice (374 filers; 63 burden hours), because 2005 branchwide figures are now available in addition to those for 2003 and 2004.

Web Site Distribution of Blank Forms

The OGE Form 201 as modified will continue to be made available free-of-charge as a downloadable and fillable Portable Document Format (PDF) file to the public as well as departments and agencies on OGE's Internet Web site at http://www.usoge.gov.

OGE will also continue to permit departments and agencies to use the copy of the OGE Form 201, once modified, as available on OGE's Web site or to develop and utilize their own electronic versions of the modified OGE form, as long as they precisely duplicate the original to the extent possible. Agencies can also develop their own access forms, provided all the information required by the Ethics Act and OGE regulations is placed on such forms, along with the appropriate Privacy Act and paperwork notices with any attendant clearances being obtained by the agencies therefor.

For now, OGE itself accepts filing of a completed OGE Form 201 by mail, FAX, or in person, but does not permit E-mail or Internet online transmission. Similarly, requested copies of reports or other covered records are supplied by OGE as hard (paper) copies.

Consideration of Comments

On November 2, 2005, OGE published its first round notice of the forthcoming request for paperwork clearance for the proposed modified OGE Form 201. See 70 FR 66437-66438, as corrected at 70 FR 67538 (November 7, 2005). The Office of Government Ethics did not receive any comments in response to that notice, though three agencies requested a copy of the proposed revised form.

In this second notice, public comment is again invited on the proposed modified OGE Form 201 as set forth in this notice, including specifically views on: The need for and practical utility of this proposed modified collection of information; the accuracy of OGE's burden estimate; the enhancement of quality, utility and clarity of the information collected; and the minimization of burden (including the use of information technology). The Office of Government Ethics, in consultation with OMB, will consider all comments received, which will become a matter of public record.

Approved: June 26, 2006.
Robert I. Cusick,
Director, Office of Government Ethics.

[FR Doc. E6-10345 Filed 6-30-06; 8:45 am]

BILLING CODE 6345-02-P